DEPARTMENT OF THE INTERIOR

Bureau of Land Management

[LLNVW0300.L5110000.GN0000.LVEMF1402860.14X MO 4500073913]

Notice of Intent To Prepare an Environmental Impact Statement for the Proposed Hycroft Mine Expansion Phase II, Humboldt and Pershing Counties, NV

AGENCY: Bureau of Land Management, Interior.

ACTION: Notice.

SUMMARY: In compliance with the National Environmental Policy Act (NEPA) of 1969, as amended, and the Federal Land Policy and Management Act of 1976, as amended, the Bureau of Land Management (BLM), Black Rock Field Office in Winnemucca, Nevada, intends to prepare an Environmental Impact Statement (EIS) to analyze the potential impacts of approving an expansion of the Hycroft Mine in Humboldt and Pershing Counties, Nevada. This notice announces the beginning of the scoping process to solicit public comments and identify issues to be considered in the EIS, and serves to initiate consultation, as required, under the National Historic Preservation Act.

DATES: This notice initiates the public scoping process for the EIS. Comments may be submitted in writing until January 29, 2015. The date(s) and location(s) of any scoping meetings will be announced at least 15 days in advance through local media, newspapers and the BLM Web site at: http://www.blm.gov/nv/st/en/fo/wfo.html. In order to be included in the Draft EIS, all comments must be received prior to the close of the 30-day scoping period or 15 days after the last public meeting, whichever is later. We will provide additional opportunities for public participation upon publication of the Draft EIS.

ADDRESSES: You may submit comments related to the Hycroft Mine Phase II Expansion Project EIS/land use plan amendment by any of the following methods:

• Web site: http://www.blm.gov/nv/st/en/fo/wfo.html

• Email: wfoweb@blm.gov

• Fax: 775-623-1503

• Mail: BLM Winnemucca District, Black Rock Field Office 5100 E. Winnemucca Blvd., Winnemucca, NV 89445

Documents pertinent to this proposal may be examined at the Black Rock Field Office.

FOR FURTHER INFORMATION CONTACT: Ken Loda, Project Lead, telephone 775-623-1500; address BLM Winnemucca District, Black Rock Field Office, 5100 E. Winnemucca Blvd., Winnemucca, NV 89445; email wfoweb@blm.gov. Contact Mr. Loda to have your name added to our mailing list. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The applicant, Hycroft Resources and Development, Inc, (HRDI) has proposed an expansion of their operations at the existing Hycroft Mine, which is located approximately 55 miles west of Winnemucca, Nevada, in Humboldt and Pershing Counties. The mine is currently authorized to disturb 6,144 acres (approximately 1,784 acres of private land and 4,360 acres of public land), and the BLM analyzed the impacts of that disturbance in an EIS in 2012, and an Environmental Assessment for the mine plan modification in 2014. The expansion to HRDI's operations presented would include:

• Expanding the Plan boundary to the east;

• Extending mining and processing activities until 2034;

• Increasing the rate of process water pumping until 2034;

• Constructing and operating the Northeast Tailings Storage Facility (TSF) and associated pipeline corridor and haul road;

• Constructing and operating the North Heap Leach Facility (HLF) East expansion and associated solution ponds;

• Constructing a new 65 to 80 mile 345 kV power-line to the mine site;

• Expanding the existing Brimstone pit and mine below the measured groundwater table, between 4,210 to 2,860 feet above mean sea level;

• Conducting active dewatering of the Brimstone pit through installation and operation of dewatering wells;

• Conducting passive dewatering within the expanded pit footprint;

• Expanding the South Waste Rock Facility (WRF);

• Modifying the approved land use in the South Processing Complex area to allow the option of constructing the Southwest WRF in place of the complex if desired;

• Modifying waste backfill plans with respect to the proposed mining plan;

• Expanding haul and secondary roads around the pits, WRFs, HLFs, and TSF;

• Constructing storm water diversion, installing culverts, and other storm water controls;

• Constructing growth media stockpiles; and

• Possible construction of a solar energy installation after closure and reclamation.

Total surface disturbance related directly to the modified plan of operations would be 14,909 acres on public and private lands. Disturbance on public land will increase by 8,796 acres, from 4,360 acres to 13,156 acres. Disturbance on private land would decrease by 31 acres, from 1,784 acres to 1,753 acres. The BLM's approval of the proposed plan of operations modification would extend the mining and processing until 2034.

The purpose of the public scoping process is to determine relevant issues that will influence the scope of the environmental analysis, including alternatives, and guide the process for developing the EIS. At present, the BLM has identified the following preliminary issues: (a) Potential to create acid rock or heavy metals drainage from mining activities, and ensuring that there is no degradation of waters of the state or unnecessary or undue degradation of public lands; (b) Potential for an acidic pit lake to form after mining activities cease; (c) Potential impacts to Golden Eagle habitat and wildlife habitat; and (d) Potential impacts to cultural sites. The BLM will analyze a combination of proposed environmental measures and possible mitigation to reduce or eliminate any impacts associated with the proposed action.

The BLM will use NEPA public participation requirements to assist the agency in satisfying the public involvement requirements under section 106 of the National Historic Preservation Act (NHPA) (16 U.S.C. 470(f)) pursuant to 36 CFR 800.2(d)(3). The information about historic and cultural resources within the area potentially affected by the proposed plan of operations modification will assist the BLM in identifying and evaluating impacts of approving the mine expansion to such resources in the context of both NEPA and section 106 of the NHPA.

The BLM will consult with Native American tribes on a government-to-government basis in accordance with Executive Order 13175 and other policies. Tribal concerns, including impacts on Indian trust assets and potential impacts to cultural resources, will be given due consideration. Federal, State, and local agencies, along with tribes and other stakeholders that may be interested in or affected by the proposed plan of operations modification that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

Authority: 40 CFR 1501.7.

William Mack, Jr.,
Black Rock Field Manager.

[FR Doc. 2014-30517 Filed 12-29-14; 8:45 am]

BILLING CODE 4310-HC-P